CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995. This program helps to ensure that requested data can be provided in the desired format, reporting burden (time and financial resources) is minimized, collection instruments are clearly understood, and the impact of collection requirement on respondents can be properly assessed.

Currently, CNCS is soliciting comments concerning its proposed renewal of the President's Higher Education Community Service Honor Roll. The President's Higher Education Community Service Honor Roll recognizes higher education institutions that reflect the values of exemplary community service and achieve meaningful outcomes in their communities. The Honor Roll is part of the Corporation for National and Community Service's strategic commitment to engage millions of college students in service and celebrate the critical role of higher education in strengthening communities. This information collection does not result in grant funding from the Corporation for National and Community Service or other federal agencies.

Copies of the information collection request can be obtained by contacting the office listed in the Addresses section of this notice.

DATES: February 27, 2017.

ADDRESSES: You may submit comments, identified by the title of the information collection activity, by any of the following methods:

(1) By mail sent to: Corporation for National and Community Service, President's Higher Education Community Service Honor Roll. Attention: Rhonda Taylor, Director of Partnerships and Program Engagement, Room #2121 250 E Street SW., Washington, DC 20525.

(2) By hand delivery or by courier to the CNCS mailroom at Room 4200 at the mail address given in paragraph (1) above, between 9:00 a.m. and 4:00 p.m. Eastern Time, Monday through Friday, except Federal holidays.

(3) By email to: engagement@cns.gov Attention: Rhonda Taylor.

(4) Electronically through www.regulations.gov.

Individuals who use a telecommunications device for the deaf (TTY-TDD) may call 1-800-833-3722 between 8:00 a.m. and 8:00 p.m. Eastern Time, Monday through Friday.

FOR FURTHER INFORMATION CONTACT: Rhonda Taylor, 202-606-6721 or via email engagement@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The information collected is provided electronically by accredited institutions of higher education through the application Web site of the President's Higher Education Community Service Honor Roll.

Current Action

CNCS seeks to revise the current information collection. The revised collection consists of questions not only related to general community service, but also community service that relates to education, economic opportunity, and interfaith community service.

The information collection will otherwise be used in the same manner as the existing application. CNCS also seeks to continue using the current application until the revised application is approved by OMB. The current application is due to expire on December 31, 2016.

Type of Review: Renewal.

Agency: Corporation for National and Community Service.

Title: President's Higher Education Community Service Honor Roll.

OMB Number: 3045-0120.

Agency Number: None.

Affected Public: The affected publics are accredited institutions of higher education.

Total Respondents: 4,500.

Frequency: Annual.

Average Time per Response: Averages 10 Hours.

Estimated Total Burden Hours: 45,000.

Total Burden Cost (capital/startup): None.

Total Burden Cost (operating/maintenance): None.

Comments submitted in response to this notice will be summarized and/or included in the request for Office of Management and Budget approval of the information collection request; they will also become a matter of public record.

Dated: December 22, 2016.
Robert L. Bisi,
Senior Public Affairs Manager.

[FR Doc. 2016-31576 Filed 12-28-16; 8:45 am]

BILLING CODE 6050-28-P